DEPARTMENT OF COMMERCE

National Oceanic and Atmospheric Administration

RIN 0648-XG658

Fisheries of the South Atlantic; South Atlantic Fishery Management Council; Public Meeting

AGENCY: National Marine Fisheries Service (NMFS), National Oceanic and Atmospheric Administration (NOAA), Commerce.

ACTION: Notice of a public meeting of the South Atlantic Fishery Management Council's (Council) Scientific and Statistical Committee (SSC).

SUMMARY: The Council will hold a meeting of its SSC to review the revision assessments for Blueline Tilefish, Red Grouper, Black Sea Bass, and Vermilion Snapper conducted by NMFS Southeast Fisheries Science Center (SEFSC) staff using the newly calibrated Marine Recreational Information Program (MRIP) catch estimates. See SUPPLEMENTARY INFORMATION.

DATES: The SSC meeting will be held via webinar on Monday, February 25, 2019, from 9 a.m. until 1 p.m.

ADDRESSES:

Meeting address: The meeting will be held via webinar. The webinar is open to members of the public. Those interested in participating should contact Mike Errigo at the Council office (see FOR FURTHER INFORMATION CONTACT) to request an invitation providing webinar access information. Please request webinar invitations at least 24 hours in advance of the webinar.

Council address: South Atlantic Fishery Management Council, 4055 Faber Place Drive, Suite 201, N Charleston, SC 29405.

FOR FURTHER INFORMATION CONTACT: Mike Errigo; 4055 Faber Place Drive, Suite 201, North Charleston, SC 29405; phone: (843) 571-4366 or toll free: (866) SAFMC-10; fax: (843) 769-4520; email: mike.errigo@safmc.net.

SUPPLEMENTARY INFORMATION: This meeting is held to review the revision assessments for Blueline Tilefish, Red Grouper, Black Sea Bass, and Vermilion Snapper conducted by SEFSC staff using the newly calibrated MRIP catch estimates. The MRIP survey has undergone two major changes in recent years, both requiring calibration of the historic time series. In 2013 a change to the Access Point Angler Intercept Survey (APAIS) was implemented, changing how catch information was collected. In 2015, MRIP implemented side by side surveys of both the existing telephone-based Coastal Household Telephone Survey (CHTS) and the new mail-based Fishing Effort Survey (FES). The FES was fully implemented in 2018, changing how effort data was collected. Calibrations models were developed, and peer reviewed for these two methodology changes and subsequently used to calibrate the original MRIP catch estimates, transforming them from the old APAIS/CHTS currency into the new APAIS/FES currency. The SEFSC replaced the MRIP data in four recent assessments (Blueline Tilefish, Red Grouper, Black Sea Bass, and Vermilion Snapper) with the newly calibrated MRIP estimates, reran the assessments and presented the results to the SSC at their October 15-17, 2018 meeting in Charleston, SC. At that time, the SSC felt they did not have enough information to provide an adequate review of these revision assessments and asked to meet at a later date when all the information they requested could be provided.

Items to be addressed during this meeting:

1. Review the revision assessments and recommend if they are best scientific information available and usable for management.

2. Discuss what impacts the revised data had on the measures of assessment uncertainty.

3. Identify any additional analyses or information necessary to support making fishing level recommendations at the next meeting.

4. Provide any other comments or recommendations as necessary.

Special Accommodations

The meeting is physically accessible to people with disabilities. Requests for sign language interpretation or other auxiliary aids should be directed to the Council office (see ADDRESSES) at least 5 business days prior to the meeting.

Note: The times and sequence specified in this agenda are subject to change.

Authority: 16 U.S.C. 1801 et seq.

Dated: February 11, 2019.
Tracey L. Thompson,
Acting Deputy Director, Office of Sustainable Fisheries, National Marine Fisheries Service.

[FR Doc. 2019-02320 Filed 2-13-19; 8:45 am]

BILLING CODE 3510-22-P